DEPARTMENT OF HOMELAND SECURITY

[Docket No. DHS-2015-0083]

The President's National Security Telecommunications Advisory Committee

AGENCY: Department of Homeland Security.

ACTION: Committee management; notice of Federal Advisory Committee Meeting.

SUMMARY: The President's National Security Telecommunications Advisory Committee (NSTAC) will meet via teleconference on Thursday, March 10, 2016. The meeting will be open to the public.

DATES: The NSTAC will meet on Thursday, March 10, 2016, from 2:00 p.m. to 3:00 p.m. Please note that the meeting may close early if the committee has completed its business.

ADDRESSES: The meeting will be held via conference call. For access to the conference call bridge, information on services for individuals with disabilities, or to request special assistance to attend, please email NSTAC@hq.dhs.gov by 5:00 p.m. on Wednesday, March 9, 2016.

To facilitate public participation, we are inviting public comment on the issues to be considered by the committee as listed in the SUPPLEMENTARY INFORMATION section below. Associated briefing materials to be discussed at the meeting will be available at www.dhs.gov/nstac for review as of Friday, March 4, 2016. Comments may be submitted at any time and must be identified by docket number DHS-2015-0083.

Comments may be submitted by one of the following methods:

• Federal eRulemaking Portal: http://www.regulations.gov. Follow the instructions for submitting written comments.

• Email: NSTAC@hq.dhs.gov. Include the docket number DHS-2015-0083 in the subject line of the email message.

• Fax: 703-235-5961, Attn: Helen Jackson.

• Mail: Designated Federal Officer, Stakeholder Engagement and Critical Infrastructure Resilience Division, National Protection and Programs Directorate, Department of Homeland Security, 245 Murray Lane, Mail Stop 0604, Arlington, VA 20598-0604.

Instructions: All submissions received must include the words “Department of Homeland Security” and the docket number for this action. Comments received will be posted without alteration at www.regulations.gov, including any personal information provided.

Docket: For access to the docket and comments received by the NSTAC, go to www.regulations.gov and enter docket number DHS-2015-0083.

A public comment period will be held during the conference call on Thursday, March 10, 2016, from 2:30 p.m. to 2:40 p.m. Speakers who wish to participate in the public comment period must register in advance by no later than Wednesday, March 9, 2016, at 5:00 p.m. by emailing NSTAC at NSTAC@hq.dhs.gov. Speakers are requested to limit their comments to three minutes and will speak in order of registration. Please note that the public comment period may end before the time indicated, following the last request for comments.

FOR FURTHER INFORMATION CONTACT: Ms. Helen Jackson, NSTAC Designated Federal Officer, Department of Homeland Security, (703) 235-5321 (telephone).

SUPPLEMENTARY INFORMATION: Notice of this meeting is given under the Federal Advisory Committee Act (FACA), 5 U.S.C. Appendix. The NSTAC advises the President on matters related to national security and emergency preparedness (NS/EP) telecommunications policy.

Agenda: The NSTAC will hold a conference call on March 10, 2016, to discuss issues and challenges related to NS/EP communications, which will comprise of discussions with high-level government stakeholders and a review of on-going NSTAC work, including an update on the Big Data Analytics Subcommittee. NSTAC members will also discuss their examination on emergent technologies. In November 2015, the Executive Office of the President requested that the NSTAC examine how emerging information and communications technologies might affect the government's NS/EP missions and capabilities over the next zero-, three-, five-, and seven-year periods. Following the discussion, members will deliberate and vote on the Letter to the President: Emerging Technologies Strategic Vision.

Dated: February 16, 2016.
Helen Jackson,
Designated Federal Officer for the NSTAC, Department of Homeland Security.

[FR Doc. 2016-03657 Filed 2-22-16; 8:45 am]

BILLING CODE 9110-9P-P